DEPARTMENT OF TRANSPORTATION

Federal Aviation Administration

RTCA Special Committee 198: Next-Generation Air/Ground Communications System (NEXCOM), Fifteenth Meeting

AGENCY: Federal Aviation Administration (FAA), DOT.

ACTION: Notice of RTCA Special Committee 198 meeting.

SUMMARY: The FAA is issuing this notice to advise the public of a meeting of RTCA Special Committee 198: Next-Generation Air/Ground Communications System (NEXCOM).

DATES: The meeting will be held on January 21-23, 2003, starting at 9 am.

ADDRESSES: The meeting will be held at RTCA, 1828 L Street, Suite 805, Washington, DC, 20036.

FOR FURTHER INFORMATION CONTACT: RTCA Secretariat, 1828 L Street, NW., Suite 805, Washington, DC, 20036; telephone (202) 833-9339; fax (202) 833-9434; Web site http://www.rtca.org.

SUPPLEMENTARY INFORMATION: Pursuant to section 19(a)(2) of the Federal Advisory Committee Act (P.L. 92-463, 5 U.S.C., Appendix 2), notice is hereby given for a Special Committee 198 meeting. The agenda will include:

• January 21:

• Opening Plenary Session (Welcome and Introductory Remarks, Review Agenda and Minutes of Previous Meeting)

• Status of Working Group (WG)-4, Transition Document for VHF Digital Link Mode 3

• Status of WG-5, Proposed Change 1 to the NEXCOM Safety and Performance Requirements (SPR)

• Status of WG-6, Interoperability of NEXCOM

• Resolve Final Review and Comment (FRAC) comments on deft WG-6 Interoperability Document for plenary approval

• January 22:

• WG-5 meeting to review proposed final Change 1 to SPR, and recommend approval for FRAC of Change 1

• January 23:

• WG-4 meeting to review Transition Document

Attendance is open to the interested public but limited to space availability. With the approval of the chairmen, members of the public may present oral statements at the meeting. Persons wishing to present statements or obtain information should contact the person listed in the FOR FURTHER INFORMATION CONTACT section. Members of the public may present a written statement to the committee at any time.

Issued in Washington, DC, on December 23, 2002.
Janice L. Peters,
FAA Special Assistant, RTCA Advisory Committee.

[FR Doc. 03-207 Filed 1-3-03; 8:45 am]

BILLING CODE 4910-13-M